DEPARTMENT OF THE INTERIOR

Fish and Wildlife Service

[FWS-R3-ES-2021-N219; FXES11130300000-201-FF03E00000]

Endangered and Threatened Species; Receipt of Recovery Permit Applications

AGENCY: Fish and Wildlife Service, Interior.

ACTION: Notice of receipt of permit applications; request for comments.

SUMMARY: We, the U.S. Fish and Wildlife Service, have received applications for permits to conduct activities intended to enhance the propagation or survival of endangered or threatened species under the Endangered Species Act. We invite the public and local, State, Tribal, and Federal agencies to comment on these applications. Before issuing any of the requested permits, we will take into consideration any information that we receive during the public comment period.

DATES: We must receive your written comments on or before February 17, 2022.

ADDRESSES: Document availability and comment submission: Submit requests for copies of the applications and related documents, as well as any comments, by one of the following methods. All requests and comments should specify the applicant name(s) and application number(s) (e.g., TEXXXXXX; see table in SUPPLEMENTARY INFORMATION):

• Email: permitsR3ES@fws.gov. Please refer to the respective application number (e.g., Application No. TEXXXXXX) in the subject line of your email message.

• U.S. Mail: Regional Director, Attn: Nathan Rathbun, U.S. Fish and Wildlife Service, Ecological Services, 5600 American Blvd. West, Suite 990, Bloomington, MN 55437-1458.

FOR FURTHER INFORMATION CONTACT: Nathan Rathbun, 612-713-5343 (phone); permitsR3ES@fws.gov (email). Individuals who are hearing or speech impaired may call the Federal Relay Service at 1-800-877-8339 for TTY assistance.

SUPPLEMENTARY INFORMATION:

Background

The Endangered Species Act of 1973, as amended (ESA; 16 U.S.C. 1531 et seq.), prohibits certain activities with endangered and threatened species unless authorized by a Federal permit. The ESA and our implementing regulations in part 17 of title 50 of the Code of Federal Regulations (CFR) provide for the issuance of such permits and require that we invite public comment before issuing permits for activities involving endangered species.

A recovery permit issued by us under section 10(a)(1)(A) of the ESA authorizes the permittee to conduct activities with endangered species for scientific purposes that promote recovery or for enhancement of propagation or survival of the species. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

We invite local, State, and Federal agencies; Tribes; and the public to comment on the following applications:

Application No. | Applicant | Species | Location | Activity | Type of take | Permit action
ES182436 | Illinois Natural History Survey, Champaign, IL | Indiana bat (Myotis sodalis), gray bat (M. grisescens), and northern long-eared bat (M. septentrionalis) | IL, MO | Conduct presence/absence surveys, conduct studies to document habitat use, conduct population monitoring, and evaluate potential impacts | Capture with mist nests, handle, identify, radio-tag, band, conduct wing biopsies, collect samples, and release | Renew.
TE02365A | Lynn Robbins, Springfield, MO | Indiana bat (Myotis sodalis), gray bat (M. grisescens), northern long-eared bat (M. septentrionalis), and Ozark big-eared bat (Corynorhinus townsendii ingens) | AL, AR, CT, DE, FL, GA, IL, IN, IA, KS, KY, LA, ME, MD, MI, MA, MN, MS, MO, MT, NE, NJ, NH, NY, NC, ND, OH, OK, PA, RI, SC, SD, TN, VT, VA, WV, WI, WY | Conduct presence/absence surveys, conduct studies to document habitat use, conduct population monitoring, and evaluate potential impacts | Capture with mist nests, handle, harp trap, identify, radio-tag, band, collect wing biopsy samples, and release | Renew.
TE77313A | Robert Madej, Athens, OH | Indiana bat (Myotis sodalis), gray bat (M. grisescens), northern long-eared bat (M. septentrionalis), Hine's emerald dragonfly (Somatochlora hineana), American burying beetle (Nicrophorus americanus), and Mitchell's satyr butterfly (Neonympha mitchelli mitchelli) | AL, AR, CT, DE, GA, IL, IN, IA, KS, KY, MD, MI, MA, MS, MO, NJ, NH, NY, NC, OH, OK, PA, RI, SC, TN, VT, VA, WV, WI | Conduct presence/absence surveys, document habitat use, conduct population monitoring, and evaluate potential impacts | Capture with mist nests, handle, harp trap, identify, radio-tag, band, enter hibernacula, and release. Conduct visual surveys | Renew.
TE120259 | Missouri Dept. of Conservation, Saint Joseph, MO | Pallid sturgeon (Scaphirhynchus albus) | KS, MO | Conduct presence/absence surveys, document habitat use, conduct population monitoring, and evaluate potential impacts | Capture, handle, hold for propagation, and release | Amend and renew.
TE94321A | Brian O'Neill, Oak Park, IL | Relict darter (Etheostoma chienense), Cumberland darter (Etheostoma susanae), palezone shiner (Notropis albizonatus), Scioto madtom (Noturus trautmani), blackside dace (Phoxinus cumberlandensis), pallid sturgeon (Scaphirhynchus albus), and 28 freshwater mussel species | IA, IL, IN, KY, MI, MN, MO, OH, PA, TN, WI, WV | Conduct presence/absence surveys, document habitat use, conduct population monitoring, and evaluate impacts | Capture, handle, and release | Renew.
TE03450B | Erin Basiger, Cloverdale, IN | Indiana bat (Myotis sodalis), northern long-eared bat (Myotis septentrionalis), gray bat (Myotis grisescens), Virginia big-eared bat (Corynorhinus townsendii virginianus), and Ozark big-eared bat (Corynorhinus townsendii ingens) | AL, AR, CT, DC, DE, GA, IA, IL, IN, KS, KY, LA, MA, MD, ME, MI, MN, MO, MS, MT, NC, NE, ND, NH, NJ, NY, OK, OH, PA, RI, SC, SD, TN, VA, VT, WI, WV, WY | Conduct presence/absence surveys, document habitat use, conduct population monitoring, and evaluate impacts | Capture with mist nests, handle, identify, radio-tag, and release | Renew.
TE81968B | Curtis Hart, Hudson, MI | Indiana bat (Myotis sodalis), northern long-eared bat (Myotis septentrionalis), gray bat (Myotis grisescens), Virginia big-eared bat (Corynorhinus townsendii virginianus), and Ozark big-eared bat (Corynorhinus townsendii ingens) | AL, AR, CT, DC, DE, FL, GA, IA, IL, IN, KS, KY, LA, MA, MD, ME, MI, MN, MO, MS, MT, NC, NE, ND, NH, NJ, NY, OK, OH, PA, RI, SC, SD, TN, VA, VT, WI, WV, WY | Conduct presence/absence surveys, document habitat use, conduct population monitoring, and evaluate impacts | Capture with mist nests, handle, identify, radio-tag, band, collect hair samples, collect fecal samples, and release | Renew.
TE99051B | Goniela Iskali, Bloomington, IN | Indiana bat (Myotis sodalis) and northern long-eared bat (Myotis septentrionalis) Add new species: Gray bat (Myotis grisescens) | AL, AR, CT, DE, FL, GA, IA, IL, IN, KS, KY, LA, MA, MD, ME, MI, MN, MO, MS, MT, NC, NE, ND, NH, NJ, NY, OK, OH, PA, RI, SC, SD, TN, TX, VA, VT, WI, WV, WY | Conduct presence/absence surveys, document habitat use, conduct population monitoring, and evaluate impacts | Capture with mist nests, handle, identify, radio-tag, band, and release | Amend and renew.
TE217351 | Katrina Schultes, Nelsonville, OH | Indiana bat (Myotis sodalis), northern long-eared bat (Myotis septentrionalis), and gray bat (Myotis grisescens) | IL, KY, OH | Conduct presence/absence surveys, document habitat use, conduct population monitoring, and evaluate impacts | Capture with mist nests and harp traps, enter hibernacula, handle, identify, radio-tag, bio sample, and release | Renew.
TE03495B | Kristina Hammond, Cheyenne, WY | Indiana bat (Myotis sodalis), northern long-eared bat (Myotis septentrionalis), and gray bat (Myotis grisescens) | AL, AR, CT, DC, DE, FL, GA, IA, IL, IN, KS, KY, LA, MA, MD, MI, MN, MO, MS, MT, NC, NE, ND, NH, NJ, NY, OK, OH, PA, RI, SC, SD, TN, VA, VT, WI, WV, WY | Conduct presence/absence surveys, document habitat use, conduct population monitoring, and evaluate impacts | Capture with mist nests and harp traps, handle, identify, radio-tag, and release | Renew.
TE049738 | Third Rock Consultants, LLC, Lexington, KY | Indiana bat (Myotis sodalis), northern long-eared bat (Myotis septentrionalis), gray bat (Myotis grisescens), Virginia big-eared bat (Corynorhinus townsendii virginianus), Ozark big-eared bat (Corynorhinus townsendii ingens), Big Sandy crayfish (Cambarus callainus), American burying beetle (Nicrophorus americanus), multiple mussel species, and multiple fish species | AL, AR, FL, GA, IA, IL, IN, KY, LA, MI, MN, MO, MS, NC, OH, PA, SC, TN, VI, WI, WV | Conduct presence/absence surveys, document habitat use, conduct population monitoring, and evaluate impacts | Capture bats with mist nests and harp traps, handle, identify, radio-tag, band, and release. Capture, handle, and release mussels, fish, Big Sandy crayfish, and American burying beetle | Renew.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. Moreover, all submissions from organizations or businesses, and from individuals identifying themselves as representatives or officials of organizations or businesses, will be made available for public disclosure in their entirety.

Next Steps

If we decide to issue permits to any of the applicants listed in this notice, we will publish a notice in the Federal Register.

Authority

We publish this notice under section 10(c) of the Endangered Species Act of 1973, as amended (16 U.S.C. 1531 et seq.).

Lori Nordstrom,
Assistant Regional Director, Ecological Services.

[FR Doc. 2022-00807 Filed 1-14-22; 8:45 am]

BILLING CODE 4333-15-P